DEPARTMENT OF THE INTERIOR

Bureau of Land Management

[BLM_AZ_FRN_MO4500168802 AZA-18465]

Public Land Order No. 7926; Extension of Public Land Order No. 6493, as Extended by Public Land Order No. 7474; Federal Bureau of Prisons North Phoenix Facility; Arizona

AGENCY: Bureau of Land Management, Interior.

ACTION: Public Land Order.

SUMMARY: This order extends the duration of the withdrawal created by Public Land Order (PLO) No. 6493, as extended by PLO No. 7474, which would otherwise expire on December 19, 2023, for an additional 20-year term. PLO No. 6493 withdrew 70 acres of public lands from settlement, sale, location, or entry under the general land laws, including the United States mining laws, but not from leasing under the mineral leasing laws, and reserved the acres for use by the United States Department of Justice, Federal Bureau of Prisons, as a support facility area for the Federal Correctional Institution-Phoenix. PLO No. 7474 extended PLO No. 6493 for an additional 20-year term.

DATES: This PLO takes effect on December 20, 2023.

FOR FURTHER INFORMATION CONTACT: Michael Ouellett, Realty Specialist, BLM Arizona State Office, 1 North Central Avenue, Suite 800 Phoenix, AZ 85004, telephone: (602) 417-9561, email at mouellett@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The purpose for which the withdrawal was first made requires an extension so the prison will continue to have mission-critical support facilities, to include a sewage treatment plant, water wells, and a buffer zone. This action will close the land to surface entry and mining, but not to mineral leasing.

Order

By virtue of the authority vested in the Secretary of the Interior by Section 204(f) of the Federal Land Policy and Management Act of 1976, 43 U.S.C. 1714(f), it is ordered as follows:

1. Subject to valid existing rights, PLO No. 6493 (48 FR 56227 (1983)), which withdrew 70 acres of public lands from settlement, sale, location, or entry under the general land laws, including the United States mining laws, but not from leasing under the mineral leasing laws, and reserved for use by the United States Department of Justice, Federal Bureau of Prisons, as a support facility area, to include a sewage treatment plant, water wells, and a buffer zone for the Federal Correctional Institution-Phoenix, is hereby extended for an additional 20-year period.

2. The withdrawal made by this order does not alter the applicability of those public land laws governing the use of the lands under lease, license, or permit, or governing the disposal of its minerals or vegetative resources other than under the United States mining laws. Leases, licenses, or permits for temporary land uses will be issued by the United States Department of Justice, Federal Bureau of Prisons. Mineral resources will continue to be administered by the Department of the Interior, Bureau of Land Management.

3. This withdrawal, extended by this order, will expire on December 19, 2043, unless, as a result of a review conducted prior to the expiration date pursuant to Section 204(f) of the Federal Land Policy and Management Act of 1976, 43 U.S.C. 1714(f), the Secretary determines that the withdrawal shall be further extended.

(Authority: 43 U.S.C. 1714(f) and 43 CFR 2310.4)

Shannon A. Estenoz,
Assistant Secretary for Fish and Wildlife and Parks.

[FR Doc. 2023-15341 Filed 7-18-23; 8:45 am]

BILLING CODE 4410-05-P